DEPARTMENT OF THE INTERIOR

Fish and Wildlife Service

[FWS-R3-ES-2016-0009; FVES59420300000F2 14X FF03E00000]

Michigan Department of Natural Resources; Application for Enhancement of Survival Permit; Proposed Programmatic Candidate Conservation Agreement With Assurances for the Eastern Massasauga Rattlesnake in Michigan; Correction

AGENCY: Fish and Wildlife Service, Interior.

ACTION: Receipt of application; request for comment; correction.

SUMMARY: On February 23, 2016, we, the U.S. Fish and Wildlife Service, announced receipt from the Michigan Department of Natural Resources of an application for an enhancement of survival permit under the Endangered Species Act of 1973, as amended. The notice contained a typographical error in the docket number for interested parties to use to submit comments. The correct docket number is [FWS-R3-ES-2016-0009]. With this notice, we correct that error.

FOR FURTHER INFORMATION CONTACT: Scott Hicks, Field Supervisor, East Lansing Field Office, by U.S. mail (see ADDRESSES); by telephone (517-351-6274), or by facsimile (517-351-1443). If you use a telecommunications device for the deaf, please call the Federal Information Relay Service at 800-877-8339.

SUPPLEMENTARY INFORMATION: In the Federal Register of February 23, 2016 (81 FR 8986), in FR Doc. 2016-03692, on page 8986 in the first column, in the ADDRESSES section, correct the docket number for interested parties to use to submit comments in from “FWS-R3-ES-FWS-R3-ES-2016-0009” to “FWS-R3-ES-2016-0009”.

Dated: February 24, 2016.
Tina A. Campbell,
Chief, Division of Policy, Performance, and Management Programs, U.S. Fish and Wildlife Service.

[FR Doc. 2016-04304 Filed 2-26-16; 8:45 am]

BILLING CODE 4333-15-P